DEPARTMENT OF THE INTERIOR

National Park Service

[NPS-WASO-NAGPRA-NPS0025477; PPWOCRADN0-PCU00RP14.R50000]

Notice of Inventory Completion: Heard Museum, Phoenix, AZ

AGENCY: National Park Service, Interior.

ACTION: Notice.

SUMMARY: The Heard Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Heard Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Heard Museum at the address in this notice by July 18, 2018.

ADDRESSES: David Roche, Director/CEO, Heard Museum, 2301 N Central Avenue, Phoenix, AZ 85004, telephone (602) 252-8840, email director@heard.org.

SUPPLEMENTARY INFORMATION: Notice is here given in accordance with the Native American Graves Protection and Repatriation Act (NAGPRA), 25 U.S.C. 3003, of the completion of an inventory of human remains and associated funerary objects under the control of the Heard Museum, Phoenix, AZ. The human remains and associated funerary objects were removed from Maricopa and Pinal Counties, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Heard Museum professional staff in consultation with representatives of Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and Tohono O'odham Nation of Arizona.

History and Description of the Remains

Prior to 1952, human remains representing, at minimum, seven individuals were removed from La Ciudad in Maricopa County, AZ. The seven individuals were collected by Frank Mitalsky, a.k.a. Frank Midvale, probably in the 1920s, and were subsequently transferred to the Heard Museum prior to 1952. The individuals include one adult of unknown gender; one young adult, probably female; one middle-aged adult, possibly male; one adult male 30-35 years old; one young female; one adolescent about 10-12 years old; and one newborn. No known individuals were identified. The 51 associated funerary objects are six jars, 28 potsherds, two shells, nine shell fragments, three fragments of mica, one stone disk, one bone bead, and one stone flake. La Ciudad was a very large Hohokam settlement which was inhabited from about AD 650 to 1450.

Sometime prior to 1969, human remains representing, at minimum, one individual were removed from an unknown site in AZ. In 1969, they were donated to the Heard Museum by Mrs. D.T. Bergin, Sr. of Tucson, AZ. The human remains belong to an adult of unknown gender. No known individuals were identified. The one associated funerary object is a jar. The jar conforms to the Hohokam pottery type known as “Gila Plain.”

Prior to 1960, human remains representing, at minimum, three individuals were removed from an unknown site in AZ. Prior to coming to the Heard Museum in 1970, the remains were purchased by Harold R. Kennedy from Claud Black, who purchased them from a Mr. Cross between 1935 and 1960. The remains consist of one middle aged adult of unknown gender, one younger person of unknown gender; and one adult aged 30-45, probably male. No known individuals were identified. The four associated funerary objects are three jars and one jar cover. One of the jars conforms to the Hohokam pottery type known as “Salt Red.” The other three ceramics conform to the Hohokam pottery type known as “Gila Plain.”

Prior to 1952, human remains representing, at minimum, five individuals were removed from a site two miles southwest of Sacaton, Pinal County, AZ. These remains were collected by Carl A. Moosberg, and include one elderly male; two individuals, possibly male and female; one female older adult; and one individual who was probably female. No known individuals were identified. The six associated funerary objects are three jars, one bowl, one lid, and one potsherd. The jars, bowl and lid all conform to the Hohokam pottery type known as “Sacaton.”

Prior to 1952, human remains representing, at minimum, one individual were removed from southern AZ. The individual was a middle-aged male. No known individuals were identified. The one associated funerary object was a jar. The jar conforms to the Hohokam pottery type known as “Casa Grande.”

Prior to 1952, human remains representing, at minimum, three individuals were removed from a site near Cashion, Maricopa County, AZ. These remains were collected by Russell Cross, and include two young children and one infant. No known individuals were identified. The six associated funerary objects are one jar, three potsherds, one shell fragment, and one worked bone fragment. The jar conforms to the Hohokam pottery type known as “Sacaton,” and two of the potsherds conform to the Hohokam pottery type known as “Gila Red.”

Prior to 1952, human remains representing, at minimum, one individual were removed from Maricopa County, AZ. The individual is an adult of unknown gender, who was found in the museum collection and determined by context to be Hohokam. No known individuals were identified. No associated funerary objects are present.

The Hohokam lived in central and southern Arizona from about A.D. 1 to 1450. In 1989, the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and Tohono O'odham Nation of Arizona stated that they are the present-day descendants of the “Hohokam.”

Determinations Made by the Heard Museum

Officials of the Heard Museum have determined that:

• Pursuant to 25 U.S.C. 3001(9), the human remains described in this notice represent the physical remains of 21 individuals of Native American ancestry.

• Pursuant to 25 U.S.C. 3001(3)(A), the 69 objects described in this notice are reasonably believed to have been placed with or near individual human remains at the time of death or later as part of the death rite or ceremony.

• Pursuant to 25 U.S.C. 3001(2), there is a relationship of shared group identity that can be reasonably traced between the Native American human remains and associated funerary objects and Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and Tohono O'odham Nation of Arizona.

Additional Requestors and Disposition

Lineal descendants or representatives of any Indian Tribe or Native Hawaiian organization not identified in this notice that wish to request transfer of control of these human remains and associated funerary objects should submit a written request with information in support of the request to David Roche, Director/CEO, Heard Museum, 2301 N Central Ave., Phoenix, AZ 85004, telephone (602) 252-8840, email director@heard.org, by July 18, 2018. After that date, if no additional requestors have come forward, transfer of control of the human remains and associated funerary objects to Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and Tohono O'odham Nation of Arizona may proceed.

The Heard Museum is responsible for notifying the Ak-Chin Indian Community (previously listed as the Ak Chin Indian Community of the Maricopa (Ak Chin) Indian Reservation, Arizona); Gila River Indian Community of the Gila River Indian Reservation, Arizona; Salt River Pima-Maricopa Indian Community of the Salt River Reservation, Arizona; and Tohono O'odham Nation of Arizona that this notice has been published.

Dated: April 19, 2018.
Melanie O'Brien,
Manager, National NAGPRA Program.

[FR Doc. 2018-13030 Filed 6-15-18; 8:45 am]

BILLING CODE 4312-52-P